FEDERAL COMMUNICATIONS COMMISSION

47 CFR Part 15

[ET Docket No. 98-153; FCC 03-33]

Ultra-Wideband Transmission Systems

AGENCY: Federal Communications Commission.

ACTION: Correcting amendment.

SUMMARY: On April 22, 2003, the Commission released a Memorandum Opinion and Order in the matter of “Ultra-Wideband Transmission Systems.” This document contains corrections to the final regulations that appeared in the Federal Register of April 22, 2003 (68 FR 19746).

DATES: Effective November 13, 2007.

FOR FURTHER INFORMATION CONTACT: John Reed, Policy and Rules Division, Office of Engineering and Technology, (202) 418-2455.

SUPPLEMENTARY INFORMATION:

Background

The final regulations that are the subject of this correction relate to “Ultra-Wideband Transmission Systems” under § 15.513(e) of the rules.

Need for Correction

As published, the final regulations contain a typographical error, which requires immediate correction.

List of Subjects in 47 CFR Part 15

Communications equipment.

Accordingly, 47 CFR part 15 is corrected by making the following correcting amendments:

PART 15—RADIO FREQUENCY DEVICES

1. The authority citation for part 15 continues to read as follows:

Authority: 47 U.S.C. 154, 302a, 303, 304, 307, 336, and 544a.

2. Section 15.513(e) is revised to read as follows:

§ 15.513 Technical requirements for medical imaging systems.

* * * * *

(e) In addition to the radiated emission limits specified in the table in paragraph (d) of this section, UWB transmitters operating under the provisions of this section shall not exceed the following average limits when measured using a resolution bandwidth of no less than 1 kHz:

Frequency in MHz | EIRP in dBm
1164-1240 | −75.3
1559-1610 | −75.3

* * * * *

Federal Communications Commission.
Marlene H. Dortch,
Secretary.

[FR Doc. E7-22124 Filed 11-9-07; 8:45 am]

BILLING CODE 6712-01-P